SECURITIES AND EXCHANGE COMMISSION

[Release No. 34-96654; File No. SR-NYSEAMER-2022-53]

Self-Regulatory Organizations; NYSE American LLC; Notice of Withdrawal of Proposed Rule Change To Amend Rule 7.19E Concerning Pre-Trade Risk Controls

January 12, 2023.

On November 17, 2022, NYSE American LLC (“NYSE American”) filed with the Securities and Exchange Commission (the “Commission”), pursuant to Section 19(b)(1) of the Securities Exchange Act of 1934 (“Act” or “Exchange Act”) ¹ and Rule 19b-4 thereunder ² to add additional pre-trade risk controls to Rule 7.19E. The proposed rule change was published for comment on December 5, 2022.³ On January 10, 2023, NYSE American withdrew the proposed rule change (SR-NYSEAMER-2022-53).

¹ 15 U.S.C. 78s(b)(1).

² 17 CFR 240.19b-4.

³ See Securities Exchange Act Release No. 96403 (November 29, 2022), 87 FR 74459 (December 5, 2022). Comments received on the proposal are available on the Commission's website at: https://www.sec.gov/comments/sr-nyseamer-2022-53/srnyseamer202253.htm.

For the Commission, by the Division of Trading and Markets, pursuant to delegated authority.⁴
⁴ 17 CFR 200.30-3(a)(12).
Sherry R. Haywood,
Assistant Secretary.

[FR Doc. 2023-00909 Filed 1-18-23; 8:45 am]

BILLING CODE 8011-01-P